NATIONAL SCIENCE FOUNDATION

Advisory Committee for Social, Behavioral, and Economic Sciences; Notice of Meeting

In accordance with the Federal Advisory Committee Act (Pub. L. 92-463, as amended), the National Science Foundation announces the following meeting:

Name: Advisory Committee for Social, Behavioral, and Economic Sciences (#1171).

Date/Time: June 5, 2008; 8:30 a.m. to 5 p.m.; June 6, 2008; 8:30 a.m. to 1 p.m.

Place: Hilton Arlington, 950 North Stafford Street, Second Floor—Master's Ball Room, Arlington, Virginia 22230.

Type of Meeting: Open.

Contact Person: Ms. Lisa L. Jones, Office of the Assistant Director, Directorate for Social, Behavioral, and Economic Sciences, National Science Foundation, 4201 Wilson Boulevard, Room 905, Arlington, Virginia 22230, 703-292-8700.

Summary Minutes: May be obtained from contact person listed above.

Purpose of Meeting: To provide advice and recommendations to the National Science Foundation on major goals and policies pertaining to Social, Behavioral and Economic Sciences Directorate programs and activities.

Agenda:

Thursday

Updates and Discussion on Continuing Activities

• Budget process and status.

• Human and Social Dynamics—COV discussion and plans for the future.

• SBE participation in NSF initiatives for FY 2009.

• Sustainability workshop report.

• SBE infrastructure.

• Linkages with DOD.

Friday

Updates and Discussion on Continuing Activities.

• International activities.

• Questions from the National Science Board: Limitations on proposal submission; cost sharing.

• Broadening participation.

• Human capital and succession planning in SBE.

Discussion with the NSF Director.

Planning for FY 2010 and Beyond.

Dated: May 8, 2008.
Susanne Bolton,
Committee Management Officer.

[FR Doc. E8-10629 Filed 5-12-08; 8:45 am]

BILLING CODE 7555-01-P